DEPARTMENT OF HOMELAND SECURITY

Federal Emergency Management Agency

[Docket ID: FEMA-2014-0034; OMB No. 1660-0040]

Agency Information Collection Activities: Proposed Collection; Comment Request; Standard Flood Hazard Determination Form

AGENCY: Federal Emergency Management Agency, DHS.

ACTION: Notice; Correction; Extension of Comment Period.

On December 11, 2014, the Federal Emergency Management Agency (FEMA) published an agency information collection notice in the Federal Register at 79 FR 73604. In the ADDRESSES section, FEMA inadvertently listed the docket ID in (1) Online as FEMA-2013-0034. The correct Docket ID is FEMA 2014-0034. Because of the error, FEMA is also extending the comment deadline. The comment deadline has been extended from February 9, 2015 to February 16, 2015.

Dated: February 4, 2015.
Charlene D. Myrthil,
Director, Records Management Division, Mission Support Bureau, Federal Emergency Management Agency, Department of Homeland Security.

[FR Doc. 2015-02549 Filed 2-6-15; 8:45 am]

BILLING CODE 9111-53-P